DEPARTMENT OF COMMERCE

U.S. Census Bureau

Current Industrial Reports Surveys—WAVE II (Mandatory and Voluntary Surveys)

ACTION: Proposed collection; Comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 30, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to: Mendel D. Gayle, Assistant Chief for Census and Related Programs, (301) 763-4587, Census Bureau, Manufacturing and Construction Division, Room 2102A, Building #4, Washington, DC 20233 (or via the Internet at: mendel.d.gayle@census.gov).

SUPPLEMENTARY INFORMATION:

I. Abstract

The Census Bureau plans to request a revision of the currently approved Office of Management and Budget (OMB) clearance of the Current Industrial Reports (CIR) for Wave II. The Census Bureau conducts a series of monthly, quarterly, and annual surveys as part of the Current Industrial Reports (CIR) program. The CIR surveys primarily publish data on quantity and value of shipments of particular products and occasionally with data on production and inventories; unfilled orders, receipts, stocks and consumption; and comparative data on domestic production, exports, and imports of the products they cover. These surveys provide continuing and timely national statistical data on manufacturing. Individual firms, trade associations, and market analysts use the results of these surveys extensively in planning or recommending marketing and legislative strategies.

The CIR program includes both mandatory and voluntary surveys. Typically, the monthly and quarterly surveys are conducted on a voluntary basis and annual collections are mandatory. The collection frequency of individual CIR surveys is determined by the cyclical nature of production, the need for frequent trade monitoring, or the use of data in Government economic indicator series. Some monthly and quarterly CIR surveys have an annual “counterpart” collection. The annual counterpart collects annual data on a mandatory basis from those firms not participating in the more frequent collection.

Due to the large number of surveys in the CIR program, for clearance purposes, the CIR surveys are divided into “waves.” One wave is resubmitted for clearance each year. This year the Census Bureau plans to submit mandatory and voluntary surveys of Wave II for clearance. During the economic census years, years ending in 2 and 7 all voluntary annual surveys are made mandatory. For the 2007 Economic Census the following surveys are converting to mandatory status: MA311D—“Confectionery”, MA333N—“Fluid Power Products for Motion Control (Including Aerospace), and MA336G—“Aerospace Industry”. The MQ335C—“Fluorescent Lamp Ballasts” is discontinued. All known manufacturing activities for this industry are done outside the United States. The surveys included in Wave II are:

Mandatory surveys | Voluntary survey
M311J—Oilseeds, Beans, and Nuts (Primary Producers) | *M327G—Glass Containers.
M313N—Cotton and Raw Linters in Public Storage | *MQ311A—Flour Milling Products.
M313P—Consumption on the Cotton System and Stocks | *MQ325A—Inorganic Chemicals.
MQ313A—Textiles | MQ325F—Paint, Varnish, and Lacquer.
MQ315A—Apparel | *These voluntary surveys have mandatory annual counterparts.
MQ333W—Metalworking Machinery |
MA311D—Confectionery |
MA314Q—Carpets and Rugs |
MA321T—Lumber Production and Mill Stocks |
MA325G—Pharmaceutical Preparations, except Biologicals |
MA333N—Fluid Power Products for Motion Control (Including Aerospace) |
MA333P—Pumps and Compressors |
MA335E—Electric Housewares and Fans |
MA335J—Insulated Wire and Cable |
MA336G—Aerospace Industry |

II. Method of Collection

The Census Bureau will use mail out/mail back survey forms to collect data. We ask respondents to return monthly report forms within 10 days, quarterly report forms within 15 days, and annual report forms within 30 days of the initial mailing. Telephone calls and/or letters encouraging participation will be mailed to respondents who have not responded by the designated time.

III. Data

OMB Number: 0607-0395.

Form Number: See Chart Above.

Type of Review: Regular submission.

Affected Public: Business or other for-profit organizations.

Estimated Number of Respondents: 8,182.

Estimated Time per Response: 1.332 hours.

Estimated Total Annual Burden: 10,857 hours.

Estimated Total Annual Cost: The estimated cost to respondents for all the CIR reports in Wave II for fiscal year 2008 is $185,329.

Respondent's Obligation: The CIR program includes both mandatory and voluntary surveys.

Legal Authority: Title 13, United States Code, Sections 61, 81, 131, 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 22, 2007.
Gwellnar Banks,
Management Analyst, Office of the Chief Information Officer.

[FR Doc. E7-3433 Filed 2-27-07; 8:45 am]

BILLING CODE 3510-07-P